DEPARTMENT OF ENERGY

Federal Energy Regulatory Commission

Combined Notice of Filings #2

Take notice that the Commission received the following electric corporate filings:

Docket Numbers: EC15-41-000.

Applicants: PacifiCorp.

Description: Application for Approval of Acquisition of Jurisdictional Assets Under Section 203 of PacifiCorp.

Filed Date: 11/28/14.

Accession Number: 20141128-5077.

Comments Due: 5 p.m. ET 12/19/14.

Take notice that the Commission received the following electric rate filings:

Docket Numbers: ER15-514-000.

Applicants: Jersey Central Power & Light Co.

Description: Notice of Cancellation of Service Agreement of Jersey Central Power & Light Company.

Filed Date: 11/26/14.

Accession Number: 20141126-5308.

Comments Due: 5 p.m. ET 12/17/14.

Docket Numbers: ER15-515-000.

Applicants: Great Bay Energy VII, LLC.

Description: Initial rate filing per 35.12 Baseline new to be effective 12/1/2014.

Filed Date: 11/28/14.

Accession Number: 20141128-5069.

Comments Due: 5 p.m. ET 12/19/14.

Docket Numbers: ER15-516-000.

Applicants: FirstEnergy Service Company.

Description: Request for Waiver of FirstEnergy Service Company.

Filed Date: 11/26/14.

Accession Number: 20141126-5326.

Comments Due: 5 p.m. ET 12/17/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2014.
Nathaniel J. Davis, Sr.,
Deputy Secretary.

[FR Doc. 2014-28861 Filed 12-9-14; 8:45 am]

BILLING CODE 6717-01-P